DEPARTMENT OF HOMELAND SECURITY

[DHS-2006-0042]

Science and Technology Directorate; Submission for Review; Reinstatement of a Previously Approved Information Collection Request for Support of SAFETY Act Application Kit 1640-0001

AGENCY: Science and Technology Directorate, DHS.

ACTION: 60 day Notice and request for comment.

SUMMARY: The Department of Homeland Security (DHS) is soliciting public comment on the application forms and instructions (hereinafter “Application Kit”) designed to assist persons applying for coverage under the SAFETY Act of 2002. This notice and request for comments is required by the Paperwork Reduction Act of 1995 (Pub. L. 104-13, 44 U.S.C. chapter 35).

DATES: Comments are encouraged and will be accepted until October 16, 2006.

ADDRESSES: You may submit comments, identified by docket number DHS-2006-0042, by one of the following methods:

• Federal eRulemaking Portal: http://www.regulations.gov. Follow the instructions for submitting comments.

• E-mail: linda.vasta@dhs.gov. Include docket number DHS-2006-0042 in the subject line of the message.

• Mail: Science and Technology Directorate, ATTN: SAFETY Act, 245 Murray Drive, Bldg 410, Washington, DC 20528.

FOR FURTHER INFORMATION CONTACT: Linda Vasta (703) 575-4511 (this is not a toll free number).

SUPPLEMENTARY INFORMATION: On June 8, 2006, DHS published a final rule interpreting and implementing the SAFETY Act of 2002 (see 71 FR 33147). In connection with the issuance of this final rule, DHS consolidated the forms and instructions designed to assist persons applying for SAFETY Act coverage. The forms and instructions were consolidated into one Application Kit.

DHS invites the general public to comment on the proposed reinstatement of OMB Information Collection 1640-0001 (Application Kit), as described below.

Interested parties can obtain copies of the Application Kit by going to the Office of Safety Act Web site and downloading copies thereof. The address is: http://www.safetyact.gov. The Application Kit may also be obtained by calling or writing the point of contact listed above.

Please note that the Application Kit includes various forms for different types of SAFETY Act applications. As explained herein, these separate forms are intended to be flexible and permit the Applicants to provide relevant information to their specific applications without undue bureaucratic burden. The Department is committed to improving its SAFETY Act processes and urges all interested parties to suggest how these materials can further reduce burden while seeking necessary information under the Act.

DHS is particularly interested in comments that:

(1) Evaluate whether the proposed collection of information is necessary for the proper performance of the functions of the agency, including whether the information will have practical utility;

(2) Evaluate the accuracy of the agency's estimate of the burden of the proposed collection of information, including the validity of the methodology and assumptions used;

(3) Suggest ways to enhance the quality, utility, and clarity of the information to be collected; and

(4) Suggest ways to minimize the burden of the collection of information on those who are to respond, including through the use of appropriate automated, electronic, mechanical, or other technological collection techniques or other forms of information technology, e.g., permitting electronic submissions of responses.

Overview of This Information Collection

(1) Type of Information Collection: Reinstatement of a previously approved collection.

(2) Title of the Form/Collection: SAFETY Act Application Kit

(3) Agency Form Number, if any, and the applicable component of the Department of Homeland Security sponsoring the collection: DHS-S&T-I SAFETY-0001 through 0010.

(4) Affected public who will be asked or required to respond, as well as a brief abstract: Business or other for-profit and not-for profit institutions; the data collected through the Application Kit will facilitate efforts of responding persons to develop vital anti-terrorist technology by obtaining coverage under the SAFETY Act.

(5) An estimate of the total number of respondents and the amount of time estimated for an average respondent to respond: 2500 respondents with an average of slightly more than 48.5 hours per respondent.

(6) An estimate of the total public burden (in hours) associated with the collection: 121,400 burden hours.

Dated: August 14, 2006.
Gregg Piermarini,
Director of Engineering, Chief Information Office, Science and Technology Directorate.

[FR Doc. 06-7002 Filed 8-14-06; 3:56 pm]

BILLING CODE 4410-10-P